DEPARTMENT OF HOMELAND SECURITY

Coast Guard

33 CFR Part 117

[USCG-2008-0048]

Drawbridge Operation Regulations; Gulf Intracoastal Waterway (GIWW), mile 49.8, near Houma, Lafourche Parish, LA

AGENCY: Coast Guard, DHS.

ACTION: Notice of temporary deviation from regulations; request for comments.

SUMMARY: The Commander, Eighth Coast Guard District, has issued a temporary deviation from the regulation governing the operation of the SR 316 Blue Bayou Pontoon Bridge across the Gulf Intracoastal Waterway, mile 49.8, near Houma, Lafourche Parish, LA. This deviation will test a change to the drawbridge operation schedule to determine whether a permanent change to the schedule is needed. This deviation will allow the draw of the bridge to open on signal except during the regular school year on Monday through Friday except Federal holidays from 7 a.m. to 8:30 a.m., from 2 p.m. to 4 p.m., and from 4:30 p.m. to 5:30 p.m.

DATES: This deviation is effective from March 27, 2008, until April 28, 2008. Comments and related material must reach the Coast Guard on or before May 12, 2008.

ADDRESSES: You may submit comments identified by Coast Guard docket number USCG-2008-0048 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this proposed rule, call Bart Marcules, Bridge Administration Branch, telephone (504) 671-2128.

If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

Submitting comments

If you submit a comment, please include the docket number for this rulemaking USCG-2008-0048, indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time, click on “Search for Dockets,” and enter the docket number for this rulemaking USCG-2008-0048 in the Docket ID box, and click enter. You may also visit the Docket Management Facility in Room W12-140 on the ground floor of the DOT West Building, 1200 New Jersey Avenue SE., Washington, DC 20590, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Background and Purpose

The Lafourche Parish Council has requested that a regulation be placed on the SR 316 Blue Bayou Pontoon Bridge across the Gulf Intracoastal Waterway (GIWW), at mile 49.8, near Houma, LA. This bridge currently opens on signal as required by 33 CFR 117.5. Due to a high volume of vehicular traffic on SR 316, and the length of time to open and close the SR 316 Blue Bayou Pontoon Bridge, a bridge opening can cause a substantial delay in transit time for school buses having to cross the bridge. To minimize the transit time of school children, Lafourche Parish requested closure periods around the scheduled school bus route times to allow the buses to cross the bridge without delay caused by a bridge opening. Currently, based on twelve months of bridge logs and a two week vehicular traffic count during the school year the 7 a.m. to 8:30 a.m. period has an average of 87 cars to 3.4 vessels, the 2 p.m. to 4 p.m. period has an average of 112 cars to 6.3 vessels, and the 4:30 p.m. to 5:30 p.m. period has an average of 140 cars to 3.2 vessels. Thus, a substantial delay can occur to the school buses that have to cross this bridge during their routes.

The users of the waterway consist mostly of towboats and barges, fishing vessels, and some recreational vessels. All waterway users transiting through this area require the bridge to open since the bridge is a pontoon bridge with no vertical clearance in the closed to navigation position and there is no feasible alternate route. During this test deviation, a count of the delayed vessels during the closure periods will be taken to ensure a future regulation will not have a significant impact on navigation. This test deviation has been coordinated with the main commercial waterway user group that has vessels transiting in this area, and currently there is no expectation of any significant impacts on navigation.

The deviation period will be from March 27, 2008 until April 28, 2008. During the deviation period, the draw shall open on signal; except that, the draw need not be opened from 7 a.m. to 8:30 a.m., from 2 p.m. to 4 p.m., and from 4:30 p.m. to 5:30 p.m., Monday through Friday except Federal holidays.

A Notice of Proposed Rulemaking, USCG-2008-0049, is being issued in conjunction with this Temporary Deviation to obtain public comments. The Notice of Proposed Rulemaking will be open for public comment for two months from March 12, 2008 until May 12, 2008. The Coast Guard will evaluate public comments from this Temporary Deviation and the above referenced Notice of Proposed Rulemaking to determine if a permanent special drawbridge operating regulation is warranted.

In accordance with 33 CFR 117.35(e), the drawbridge must return to its regular operating schedule immediately at the end of the designated time period. This deviation from the operating regulations is authorized under 33 CFR 117.35.

Dated: February 21, 2008.
David M. Frank,
Bridge Administrator.

[FR Doc. E8-4943 Filed 3-11-08; 8:45 am]

BILLING CODE 4910-15-P